SMALL BUSINESS ADMINISTRATION

[Declaration of Disaster #P048]

Commonwealth of Kentucky

As a result of the President's major disaster declaration for Public Assistance on August 6, 2004 the U.S. Small Business Administration is activating its disaster loan program only for private non-profit organizations that provide essential services of a governmental nature. I find that Adair, Allen, Barren, Breckinridge, Butler, Clinton, Cumberland, Daviess, Edmonson, Grayson, Green, Hancock, Hardin, Hart, Larue, Meade, Metcalfe, Monroe, Nelson, Ohio, Russell, Spencer, Taylor, Warren, Washington, and Wayne Counties in the State of Kentucky constitute a disaster area due to damages caused by severe storms and flooding occurring on July 13, 2004 and continuing through July 15, 2004. Applications for loans for physical damage as a result of this disaster may be filed until the close of business on October 5, 2004 at the address listed below or other locally announced locations:

U.S. Small Business Administration, Disaster Area 2 Office, One Baltimore Place, Suite 300, Atlanta, GA 30308.

The interest rates are:

| Percent
For Physical Damage:
Non-profit organizations without credit available elsewhere | 2.750
Non-profit organizations with credit available elsewhere | 4.875

The number assigned to this disaster for physical damage is P04806.

(Catalog of Federal Domestic Assistance Program Nos. 59008)
Dated: August 12, 2004.
Herbert L. Mitchell,
Associate Administrator for Disaster Assistance.

[FR Doc. 04-19105 Filed 8-19-04; 8:45 am]

BILLING CODE 8025-01-P